DEPARTMENT OF TRANSPORTATION

Office of the Secretary

14 CFR Part 382

[Docket No. DOT-OST-2008-0272 and DOT-OST-2008-0273]

Nondiscrimination on the Basis of Disability in Air Travel

AGENCY: Department of Transportation, Office of the Secretary.

ACTION: Notice of availability of electronic submission.

SUMMARY: The Department of Transportation is publishing the following document regarding the provisions on conflict of laws and equivalent alternative determinations contained in the Office of the Secretary (OST) final rule on “Nondiscrimination on the Basis of Disability in Air Travel” (73 FR 27614; May 13, 2008). The document announces the availability of electronic submissions for conflict of law waiver requests and applications for equivalent alternative determinations through the Federal Docket Management System (FDMS). It also provides guidance to U.S. and foreign air carriers on how to submit such requests and applications through FDMS.

DATES: This document is effective on September 15, 2008.

FOR FURTHER INFORMATION CONTACT: Blane A. Workie, Chief, Aviation Civil Rights Compliance Branch, Office of the Assistant General Counsel for Aviation Enforcement and Proceedings, Department of Transportation, 1200 New Jersey Avenue, SE., Room W98-310, Washington, DC 20590, (202) 366-9342.

SUPPLEMENTARY INFORMATION: On May 13, 2008, the Department of Transportation published a final rule amending its Air Carrier Access Act (ACAA) rules to apply to foreign air carriers and adding new provisions concerning passengers who use medical oxygen and passengers who are deaf or hard-of-hearing. The rule, which applies to U.S. carriers wherever their operations take place and foreign air carriers with respect to their flights that begin or end at a U.S. airport, allows carriers to apply to the Department of Transportation (DOT or Department) for a waiver from the requirements in the rule if a foreign legal requirement conflicts with a given provision of this rule. A carrier that submits a conflict of law waiver request on or before September 10, 2008, obtains a commitment from DOT not to take enforcement action related to the allegedly conflicting foreign law pending DOT's response to the waiver request.

The rule also permits U.S. and foreign carriers to apply to the Department for a determination on what the final rule calls an “equivalent alternative.” A carrier that submits an application for an equivalent alternative determination on or before September 10, 2008, can implement its proposed equivalent alternative unless and until the Department disapproves it. However, a carrier that submits such an application after September 10, 2008, cannot use its proposed equivalent alternative unless and until the Department approves it.

The rule specifies that carriers must send conflict of law waiver requests or applications for equivalent alternative determinations to the Assistant General Counsel for Aviation Enforcement and Proceedings. It provides the following address for paper submissions of such requests/applications: Assistant General Counsel for Aviation Enforcement and Proceedings, C-70, U.S. Department of Transportation, 1200 New Jersey Avenue, SE., Room W96-322, Washington, DC 20590. It does not provide a mechanism for submitting the information electronically. The purpose of this notice is to inform airlines that they have the option of electronically submitting a conflict of law waiver request or an application for an equivalent alternative determination through FDMS as a substitute for paper submission. The Department believes that allowing carriers to submit the requested information through FDMS will make the process more efficient for carriers and will best ensure the timely receipt by the Office of the Assistant General Counsel for Aviation Enforcement and Proceedings (Aviation Enforcement Office) of the waiver requests and applications for equivalent alternative determinations. It should be noted that the filing of waiver requests or applications by mail is still permitted but this notice provides another mechanism for submitting such requests/applications.

Manner of Submitting a Conflict of Law Waiver Request and an Application for Equivalent Alternative Determination

Has a Public Docket Been Established?

DOT has established an official public docket for conflict of law waiver requests under docket identification (ID) number DOT-OST-2008-0272 and for applications for equivalent alternative determinations under docket identification ID DOT-OST-2008-0273. The official public docket will consist of the waiver requests or applications and other information related to those actions (e.g., approval or denial of requests/applications). Although a part of the official docket, the public docket is not intended to include Confidential Business Information (CBI) or other information whose disclosure is restricted by statute. The official public docket is the collection of materials that is available for public viewing.

How Do I Submit a Conflict of Law Waiver Request or an Application for Equivalent Alternative Determination Through the Electronic Public Docket in FDMS?

You may submit requests/applications electronically through FDMS by taking the following steps:

a. Go directly to www.regulations.gov <http://www.regulations.gov/> and use the SEARCH DOCUMENTS field to input your docket number. Click the GO >> command to see your search results.

b. Click on the “Send a Comment or Submission” link (the yellow speech bubble should be available) after insuring that you have the correct docket. This can be verified by checking the DOCKET ID information.

c. You will now be sent to the PUBLIC COMMENT AND SUBMISSION FORM; here you will fill out submitter information, as well as attach any documents you wish to upload (note: you can have multiple submissions attached, the size limit is 10 megabytes). The only required field on this form is the GENERAL COMMENTS BOX. If uploading attachments you would first click “browse” to find the file you wish to attach, then click “add attachment” to attach the file to your comment.

d. After uploading any attachments and filling in the form, you will click the “NEXT STEP” button to go to the REVIEW COMMENT page; here you can double check the information you provided and verify that everything is correct before going to the final step.

e. Once you have clicked the SUBMIT button, you will be taken to the COMMENT SUBMITTED page, and given a receipt with a COMMENT TRACKING NUMBER. You will want to write this down or print the page for your records. This information can be used to track your submission.

To ensure proper receipt by the Department, identify the appropriate docket ID number in the subject line on the first page of your request or application.

How Should I Submit Confidential Business Information (CBI) to the Agency?

You should not submit information that you consider to be CBI through the electronic public docket in FDMS. If you wish to take advantage of the opportunity to electronically submit a conflict of law waiver request or an application for an equivalent alternative determination but a portion of your request or application contains CBI, then you should send by mail to the Aviation Enforcement Office the original document containing CBI and submit a second copy of the original document with the CBI redacted in FDMS. The date that you submit the document to FDMS will be considered the receipt date.

The original document that you mail to the Aviation Enforcement Office should clearly indicate which material you believe contains confidential information. You can do this by marking “confidential” on each page of the original document that you would like to keep confidential and highlighting or underlining the CBI. You will also need to explain why the information is confidential (as a trade secret, other confidential commercial information, or sensitive security information (SSI)). In your explanation, you should provide enough information to enable the Department to determine whether the information provided is protected by law and must be handled separately. Information not marked as CBI will be included in FDMS without prior notice. Also, if you do not provide an explanation of why the information is confidential you risk the Department including it in the public docket. The Department will also place in the public docket those portions of submissions that a carrier may have redacted but that the agency determines are not trade secrets, other confidential commercial information, or SSI. DOT's policy is that waiver requests or applications for equivalent alternative determinations will be made available for public viewing in DOT's electronic public docket (i.e., FDMS) as DOT receives them and without change, unless the request or application contains copyrighted material, CBI, or other information whose disclosure is restricted by statute.

Dated: September 8, 2008.
Samuel Podberesky,
Assistant General Counsel for Aviation Enforcement and Proceedings, U.S. Department of Transportation.

[FR Doc. E8-21204 Filed 9-12-08; 8:45 am]

BILLING CODE 4910-9X-P